DEPARTMENT OF EDUCATION

Applications for New Awards; Project Prevent Grant Program

AGENCY: Office of Elementary and Secondary Education, Department of Education.

ACTION: Notice.

SUMMARY: The Department of Education (Department) is issuing a notice inviting applications for fiscal year (FY) 2022 for the Project Prevent grant program, Assistance Listing Number 84.184M. This notice relates to the approved information collection under OMB control number 1810-0766.

DATES: Applications available: August 19, 2022.

Deadline for transmittal of applications: October 3, 2022.

Deadline for intergovernmental review: December 2, 2022.

Pre-application webinar information: The Department will hold a pre-application workshop via webinar for prospective applicants. The date and time of the workshop will be announced on the Department's website at https://oese.ed.gov/offices/office-of-formula-grants/safe-supportive-schools/project-prevent-grant-program/.

ADDRESSES: For the addresses for obtaining and submitting an application, please refer to our Common Instructions for Applicants to Department of Education Discretionary Grant Programs, published in the Federal Register on December 27, 2021 (86 FR 73264), and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Nicole White. Telephone: (202) 453-6732. Email: ProjectPrevent@ed.gov.

If you are deaf, hard of hearing, or have a speech disability and wish to access telecommunications relay services, please dial 7-1-1.

SUPPLEMENTARY INFORMATION:

Full Text of Announcement

I. Funding Opportunity Description

Purpose of Program: The purpose of the Project Prevent Grant Program is to provide grants to local educational agencies (LEAs) impacted by community violence and to expand the capacity of LEAs to implement community- and school-based strategies to help prevent community violence and mitigate the impacts of exposure to community violence.

Background: Children and youth's exposure to community violence, whether as victims or witnesses, is often associated with long-term physical, psychological, and emotional harms. Research has demonstrated that community violence is a risk factor for experiencing an adverse childhood experience (ACE), such as abuse, neglect, witnessing violence, or having a family member who is incarcerated, and has an impact on future violence and victimization in a community.¹ ACEs can lead children and youth to experience depression, anxiety, and post-traumatic disorders; have difficulty in, or disconnect from, school and the workforce; and engage in delinquency or violent acts, potentially perpetuating the conditions that contribute to a cycle of community violence.²

¹ Centers for Disease Control and Prevention. Adverse Childhood Experiences (ACEs), Risk and Protective Factors. www.cdc.gov/violenceprevention/aces/riskprotectivefactors.html.

² See id.; Healthy People 2030—Crime and Violence. www.health.gov/healthypeople/priority-areas/social-determinants-health/literature-summaries/crime-and-violence.

Community violence, which is defined in this document, is a significant public health, public safety, and community infrastructure concern nationwide and is a leading cause of death, injury, and intergenerational trauma for people in the United States.³ Community violence imposes enormous human, social, and economic costs, including disruption to employment and hindering a community's social and economic development.⁴ While the majority of young people resiliently persevere, those who have been victims of violence are at substantially higher risk of being violently re-attacked or killed.⁵ Additionally, both direct and indirect violence exposure have been associated with poor health outcomes, including chronic illness, anxiety, depression, and substance misuse and with poor economic outcomes.⁶

³ Centers for Disease Control and Prevention. Adverse Childhood Experiences (ACEs), Risk and Protective Factors. www.cdc.gov/violenceprevention/aces/riskprotectivefactors.html.

⁴ Break the Cycle of Violence Act, S. 2275, 117th Cong., sec. 2 (2021). https://www.govinfo.gov/content/pkg/BILLS-117s2275is/html/BILLS-117s2275is.htm. See generally U.S. Department of Health and Human Services, Office of Disease Prevention and Health Promotion. Healthy People 2030—Crime and Violence. https://health.gov/healthypeople/objectives-and-data/social-determinants-health/literature-summaries/crime-and-violence.

⁵ See Break the Cycle of Violence Act, S. 2275, 117th Cong., sec. 2 (2021). https://www.govinfo.gov/content/pkg/BILLS-117s2275is/html/BILLS-117s2275is.htm.

U.S. Department of Justice. Violent Victimization as a Risk Factor for Violent Offending Among Juveniles (Dec. 2002). https://www.ojp.gov/pdffiles1/ojjdp/195737.pdf.

⁶ See Break the Cycle of Violence Act, S. 2275, 117th Cong., sec. 2 (2021). https://www.govinfo.gov/content/pkg/BILLS-117s2275is/html/BILLS-117s2275is.htm.

Programs facilitated in schools by counselors, mental health services providers, school support personnel, and community leaders for students who have been exposed to or are at high risk of involvement in community violence have been shown to help students develop the social and emotional resiliency skills needed to navigate difficult circumstances outside of the classroom and to turn away from violence and reengage in school.⁷ When properly implemented and consistently funded, we believe that coordinated, community-based strategies that utilize trauma-responsive care and interrupt cycles of community violence may produce lifesaving and cost-saving results in a short period of time. These strategies should identify those at the highest risk, coordinate individualized wraparound resources, provide pathways to healing and stability, and monitor and support long-term success.

⁷ See, e.g., Chicago Lab Crime Report. https://www.youth-guidance.org/bam/.

The Biden-Harris Administration is taking a number of steps to prioritize investment in community violence interventions that are proven strategies for reducing gun violence in urban communities through approaches other than incarceration.⁸ Congress also introduced a bill in 2021 focusing on effective community-based violence reduction initiatives to reduce crime and build safer, thriving communities.⁹

⁸ The White House. FACT SHEET: Biden-Harris Administration Announces Initial Actions to Address the Gun Violence Public Health Epidemic (April 7, 2021). www.whitehouse.gov/briefing-room/statements-releases/2021/04/07/fact-sheet-biden-harris-administration-announces-initial-actions-to-address-the-gun-violence-public-health-epidemic/.

⁹ Break the Cycle of Violence Act, S. 2275, 117th Cong., sec. 2 (2021). https://www.govinfo.gov/content/pkg/BILLS-117s2275is/html/BILLS-117s2275is.htm.

Priorities: This competition includes one absolute priority and two competitive preference priorities. We are establishing the one absolute priority and two competitive preference priorities for the FY 2022 grant competition and any subsequent year in which we make awards from the list of unfunded applications from this competition. In accordance with 34 CFR 75.105(b)(2)(ii), the absolute priority and the competitive preference priorities are from the Department's Notice of Final Priorities, Requirements and Definition for the Project Prevent grant program (Project Prevent NFP), published elsewhere in this issue of the Federal Register.

Absolute Priority: For FY 2022, and any subsequent year in which we make awards from the list of unfunded applications from this competition, this priority is an absolute priority.

This priority is:

Absolute Priority—Addressing the Impacts of Community Violence.

Projects that implement community- and school-based strategies to help prevent community violence and mitigate the impacts of children and youth's exposure to community violence in collaboration with local community-based organizations (e.g., local civic or community service organizations, local faith-based organizations, or local foundations or nonprofit organizations) and include community and family engagement in the implementation of the strategies.

Competitive Preference Priorities: For FY 2022 and any subsequent year in which we make awards from the list of unfunded applications from this competition, these priorities are the competitive preference priorities. Under 34 CFR 75.105(c)(2)(i) we may award up to an additional 5 points for these two competitive preference priorities depending on how well the application addresses them. An applicant must clearly indicate in the abstract section of its application which competitive preference priorities they are addressing.

The priorities are:

Competitive Preference Priority 1—Established Partnership with a Local Community-Based Organization (up to 2 points).

An application that includes at least one memorandum of agreement (MOA) or memorandum of understanding (MOU) signed by the authorized representative of a local community-based organization that agrees to partner with the applicant on the proposed project and provide resources or administer services that are likely to substantially contribute to positive outcomes for the proposed project. The MOA or MOU must clearly delineate the roles and responsibilities of each entity.

Competitive Preference Priority 2—Supporting Children and Youth from Low-Income Backgrounds (up to 3 points).

In its application, an applicant must demonstrate, based on Small Area Income and Poverty Estimates (SAIPE) data from the U.S. Census Bureau or, for an LEA for which SAIPE data are not available, the same State-derived equivalent of SAIPE data that the State uses to make allocations under part A of title I of the Elementary and Secondary Education Act of 1965, as amended (ESEA), one of the following:

(a) At least 20 percent of the students enrolled in the LEA to be served by the proposed project are from families with an income below the poverty line. (1 point)

(b) At least 25 percent of the students enrolled in the LEA to be served by the proposed project are from families with an income below the poverty line. (2 points)

(c) At least 30 percent of the students enrolled in the LEA to be served by the proposed project are from families with an income below the poverty line. (3 points)

Requirements: We are establishing these program requirements and application requirements for the FY 2022 grant competition and any subsequent year in which we make awards from the list of unfunded applications from this competition. These requirements are from the Project Prevent NFP.

Application Requirements:

(a) Severity and magnitude of the problem; identification of schools to be served by the proposed project. Applicants must—

(1) Identify the schools proposed to be served by project activities;

(2) Collaborate and coordinate with community-based organizations to describe the community violence that affects students in those schools utilizing data such as incidents of community violence, gun crime and other violent crime, rates of child abuse and neglect, and other school and community crime and safety data, including on a per capita basis (such as homicides per 100,000 persons); prevalence of risk factors associated with violence-related injuries and deaths; findings from student mental health screenings or assessments, school climate surveys, and student engagement surveys; demographic data provided by U.S. Census surveys; and other relevant data and information; and

(3) Provide a comparison of the school and community data cited to similar data at the State or local level, if available.

(b) Collaboration and coordination with community-based organizations. Applicants must—

(1) Describe how they intend to work collaboratively with community-based organizations to achieve project goals and objectives;

(2) Provide evidence of collaboration and coordination through letters of support, memoranda of agreement, or memoranda of understanding from at least one community-based organization;

(3) Describe how they will use grant program funds to supplement, rather than supplant, existing or new efforts to reduce community violence and mitigate the direct and indirect effects of community violence on students; and

(4) Describe how they utilized a formal mechanism (e.g., surveys of families and community members) to obtain community feedback during the process of identifying community-based organizations with which to partner or collaborate, and the formal mechanism that will be utilized throughout the duration of the project to gather feedback on the impact of project activities.

(c) Project activities. Applicants must propose to conduct three or more of the following:

(1) Appropriately tailored professional development opportunities for LEA and school mental health staff (e.g., counselors, psychologists, and social workers), other specialized instructional support personnel, and other school staff, as appropriate, on how to screen for and respond to violence-related trauma and implement appropriate school-based interventions to help prevent community violence and mitigate the impacts of children and youth's exposure to community violence.

(2) Activities designed to improve the range, availability, and quality of culturally and linguistically competent, inclusive, and evidence-based school-based mental health services by increasing the number and diversity of staff positions (e.g., school and clinical psychologists, school counselors, school social workers, or occupational therapists) or other appropriate school support personnel, and by hiring staff who are diverse and reflective of the community, with expertise or training in violence prevention, trauma-informed care, and healing-centered strategies, and who are qualified to respond to the mental and behavioral health needs of students who have experienced trauma as a result of exposure to community violence.¹⁰

¹⁰ All strategies to increase the diversity of providers must comply with applicable Federal civil rights laws, including title VI of the Civil Rights Act of 1964.

(3) Training for school staff (e.g., teachers, administrators, specialized instructional support personnel, and support staff), community partners, youth, and families on the effects of exposure to community violence, the importance of screening students, how to screen students exposed to community violence in a manner that minimizes bias and stereotypes, and how to provide interventions.

(4) Developing or improving processes to better target services to students who are exposed to community violence and to assess such students who may be experiencing mental, social, emotional, or behavioral challenges as a result of this exposure.

(5) Enhancing linkages between LEA mental health services and community mental health systems to help ensure affected students receive referrals to treatment that is culturally and linguistically competent and evidence-based, as appropriate.

(6) Undertaking activities in collaboration and coordination with law enforcement to address community violence affecting students, to support victims' rights, and to promote public safety.

(d) Evidence-based, culturally and linguistically competent, and developmentally appropriate programs and practices. Applicants must—

(1) Describe the continuum of evidence-based, culturally and linguistically competent, and developmentally appropriate (as defined in 34 CFR 77.1(c)) programs and practices that will be implemented at the school and community levels and how these programs and practices will be organized to provide differentiated support based on student need in an equitable and inclusive manner, free from bias, to help break the cycle of community violence. These programs and practices must include all of the following:

(i) Interventions and activities that are available to all students in a school, in a manner that is equitable and inclusive, with the goal of preventing negative or violent behavior (such as harassment, bullying, fighting, gang participation, sexual assault, and substance use) and enhancing student knowledge and interpersonal and emotional skills regarding positive behavior (such as communication and problem-solving, empathy, conflict management, de-escalation, and mediation).

(ii) Interventions and activities related to positive coping techniques, anger management, conflict management, de-escalation, mediation, promotion of positive behavior, and development of protective factors.

(iii) Interventions and services, such as mentorship programming, that target individual students who are at a higher risk for committing or being a victim of violence.

(2) Describe the research and evidence supporting the proposed programs and practices and the expected effects on the target population.

(e) Framework for planning, implementation, and sustainability. Applicants must—

(1) Describe how the proposed project is integrated and aligned with the mission and vision of the LEA, including a description of the relationship of the project to the LEA's existing school safety or related plan;

(2) Describe the anticipated challenges to success of the project and how they will be addressed, such as sustaining project implementation beyond the availability of grant funds and mitigating turnover at the LEA leadership, school leadership, and staff levels; and

(3) Include a timeline of activities for—

(i) Planning that includes conducting a needs assessment that is comprehensive and examines areas for improvement, both within the school and the community, related to learning conditions that create a safe and healthy environment for students; creating a logic model (as defined in 34 CFR 77.1); completing resource mapping; selecting evidence-based, culturally and linguistically competent, and developmentally appropriate programs; developing evaluation plans; and engaging community and school partners, families, and other stakeholders;

(ii) Implementation that includes training on and execution of evidence-based, culturally and linguistically competent, and developmentally appropriate programs; continuing engagement with stakeholders; communicating and collaborating strategically with community partners; and evaluating program implementation; and

(iii) Sustainability that includes further developing and expanding on the project's successes beyond the end of the grant, at the school and community levels, in alignment with other related efforts.

(f) Planning period. Projects funded under this program may use up to 12 months during the first year of the project period for program planning. Applicants that propose a planning period must provide sufficient justification for why this program planning time is necessary, provide the intended outcomes of program planning in Year 1, and include a description of the proposed strategies and activities to be supported.

Definition: The definition of “community violence” is from the FY 2022 Project Prevent NFP.

Community violence is intentional acts of interpersonal violence (e.g., firearm injuries, assaults, and homicides) committed in public areas by individuals outside the context of a familial or romantic relationship.

Program Authority: 20 U.S.C. 7281.

Note: Projects will be awarded and must be operated in a manner consistent with the nondiscrimination requirements contained in Federal civil rights laws.

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Project Prevent Grant NFP.

II. Award Information

Type of Award: Discretionary grants.

Estimated Available Funds: $6,800,000.

Contingent upon the availability of funds and the quality of applications, we may make additional awards in FY 2023 and subsequent years from the list of unfunded applications from this competition.

Estimated Range of Awards: $250,000 to $800,000 per year for up to 5 years.

Estimated Average Size of Awards: $600,000.

Maximum Award: We will not make an award exceeding $600,000 for a single budget period of 12 months.

Estimated Number of Awards: 10-13.

Note: The Department is not bound by any estimates in this notice.

Project Period: Up to 60 months.

III. Eligibility Information

1. Eligible Applicants:

Eligible applicants for this program are local educational agencies (LEAs), as defined in 20 U.S.C. 7801(30).

2. Cost Sharing or Matching: a. This program does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: For information on how to submit an application, please refer to our Common Instructions for Applicants to Department of Education Discretionary Grant Programs, published in the Federal Register on December 27, 2021 (86 FR 73264), and available at www.federalregister.gov/d/2021-27979, which contains requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Intergovernmental Review: This program is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 25 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

V. Application Review Information

1. Selection Criteria: The selection criteria for this program are from 34 CFR 75.210. The maximum score for all selection criteria is 100 points. Applications may receive up to 5 additional points under the competitive preference priorities, for a total score of up to 105 points. The points or weights assigned to each criterion are indicated in parentheses. Non-Federal peer reviewers will evaluate and score each application program narrative against the following selection criteria:

(a) Need for Project (15 points).

In determining the need for the proposed project, the Secretary considers the following factors:

(1) The magnitude of the need for the services to be provided or the activities to be carried out by the proposed project. (10 points)

(2) The extent to which specific gaps or weaknesses in services, infrastructure, or opportunities have been identified and will be addressed by the proposed project, including the nature and magnitude of those gaps or weaknesses. (5 points)

(b) Significance (15 points).

In determining the significance of the proposed project, the Secretary considers the extent to which the proposed project is likely to build local capacity to provide, improve, or expand services that address the needs of the target population.

(c) Quality of the Project Design (15 points).

In determining the quality of the design of the proposed project, the Secretary considers the following factors:

(1) The extent to which the design of the proposed project is appropriate to, and will successfully address, the needs of the target population or other identified needs. (5 points)

(2) The extent to which the proposed project will integrate with or build on similar or related efforts to improve relevant outcomes (as defined in 34 CFR 77.1(c)), using existing funding streams from other programs or policies supported by community, State, and Federal resources. (5 points)

(3) The extent to which the proposed project is supported by promising evidence (as defined in 34 CFR 77.1 (c)). (5 points)

(d) Quality of the Project Services (25 points).

In determining the quality of the project services to be provided by the proposed project, the Secretary considers the following factors:

(1) The quality and sufficiency of strategies for ensuring equal access and treatment for eligible project participants who are members of groups that have traditionally been underrepresented based on race, color, national origin, gender, age, or disability. (5 points)

(2) The extent to which the services to be provided by the proposed project reflect up-to-date knowledge from research and effective practice. (5 points)

(3) The extent to which the services to be provided by the proposed project involve the collaboration of appropriate partners for maximizing the effectiveness of project services. (5 points)

(4) The extent to which the training or professional development services to be provided by the proposed project are of sufficient quality, intensity, and duration to lead to improvements in practice among the recipients of those services. (10 points)

(e) Quality of the Management Plan (15 points).

In determining the quality of the management plan for the proposed project, the Secretary considers the adequacy of the management plan to achieve the objectives of the proposed project on time and within budget, including clearly defined responsibilities, timelines, and milestones for accomplishing project tasks.

(f) Quality of the Project Evaluation (15 points).

In determining the quality of the evaluation of the proposed project, the Secretary considers the following factors:

(1) The extent to which the methods of evaluation are thorough, feasible, and appropriate to the goals, objectives, and outcomes of the proposed project. (10 points)

(2) The extent to which the methods of evaluation will provide performance feedback and permit periodic assessment of progress toward achieving intended outcomes. (5 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200 subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Department has established the following performance measures for the Project Prevent program for the purpose of Department reporting under 34 CFR 75.110:

(1) The percentage of grantees that report an annual measurable decrease in violent, aggressive, and disruptive behavior in schools served by the grant.

(2) The percentage of grantees that report an annual measurable increase in the number of students in schools served by the grant receiving school-based and community mental health services to address student needs resulting from exposure to community violence.

(3) The percentage of grantees that report an annual measurable increase in the school engagement of students served by the grant, as defined and measured by the grantee.

(4) The percentage of grantees that report an annual measurable increase in the quality of family engagement and grantee engagement with community-based organization(s), as defined and measured by the grantee.

(5) The percentage of grantees that report an annual measurable increase in the number of school staff or other specialized instructional support personnel trained in violence-related trauma and appropriate school-based interventions to help prevent community violence.

These measures constitute the Department's indicators of success for this program. Consequently, we advise an applicant for a grant under this program to give careful consideration to these measures in conceptualizing the approach and evaluation for its proposed project. Each grantee will be required to provide, in its annual performance and final reports, data about its progress in meeting these measures. These data will be considered by the Department in making continuation awards.

Consistent with 34 CFR 75.591, grantees funded under this program shall comply with the requirements of any evaluation of the program conducted by the Department or an evaluator selected by the Department.

6. Continuation Awards: In making a continuation award under 34 CFR 75.253, the Secretary considers, among other things, whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

James F. Lane,
Senior Advisor, Office of the Secretary Delegated the Authority to Perform the Functions and Duties of the Assistant Secretary, Office of Elementary and Secondary Education.

[FR Doc. 2022-17932 Filed 8-18-22; 8:45 am]

BILLING CODE 4000-01-P